DEPARTMENT OF LABOR

Employment And Training Administration

[TA-W-53,537]

Pacific Rim Log Scaling Bureau, Lacey, Washington; Notice of Affirmative Determination Regarding Application for Reconsideration

By letter of December 26, 2003, a petitioner requested administrative reconsideration of the Department of Labor's Notice of Negative Determination Regarding Eligibility to Apply for Worker Adjustment Assistance and Alternative Trade Adjustment Assistance, applicable to workers of the subject firm. The Department's negative determination was signed on December 11, 2003. The Notice of Determination was published in the Federal Register on January 16, 2004 (69 FR 2662).

The Department reviewed the request for reconsideration and has determined that the petitioner has provided additional information. Therefore, the Department will conduct further investigation to determine if the workers meet the eligibility requirements of the Trade Act of 1974.

Conclusion

After careful review of the application, I conclude that the claim is of sufficient weight to justify reconsideration of the Department of Labor's prior decision. The application is, therefore, granted.

Signed at Washington, DC, this 13th day of February, 2004.
Elliott S. Kushner,
Certifying Officer, Division of Trade Adjustment Assistance.

[FR Doc. E4-382 Filed 2-24-04; 8:45 am]

BILLING CODE 4510-13-P